DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for the following projects: (1) New Orleans Union Passenger Terminal (NOUPT)/Loyola Avenue Streetcar Project, New Orleans Regional Transit Authority, New Orleans, LA; (2) South Corridor: Portland-Milwaukie Light Rail Project, Tri-County Metropolitan Transportation District of Oregon (TriMet), Clackamas, and Portland, Oregon; and (3) Second Avenue Subway Project, Metropolitan Transportation Authority, New York, NY. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before July 18, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced for earlier decisions on the Second Avenue Subway project.

The projects and actions that are the subject of this notice are:

1. Project name and location: New Orleans Union Passenger Terminal (NOUPT)/Loyola Avenue Streetcar Project, New Orleans, LA. Project sponsor: New Orleans Regional Transit Authority. Project description: The NOUPT/Loyola Avenue Streetcar Project is a 0.8-mile alignment running between the New Orleans Union Passenger Terminal and Canal Streetcar line. The alignment will travel mostly in the lanes adjacent to the median on Loyola Avenue to connect the Canal Streetcar line at Canal Street/North Rampart Street.

Final agency actions: Section 106 finding of no adverse effect; project-level air quality conformity determination; Section 4(f) de minimis impact determination; and a Finding of No Significant Impact (FONSI) dated November 2010.

Supporting documentation: Environmental Assessment dated August 2010.

2. Project name and location: South Corridor: Portland-Milwaukie Light Rail Project, Clackamas, and Portland, Oregon. Project sponsor: TriMet. Project description: The project is a 7.3-mile light rail alignment between downtown Portland and Milwaukie, generally parallel to and east of Southeast McLoughlin Boulevard, with 10 light rail stations. Final agency actions: Section 4(f) determination; project-level air quality conformity; a Section 106 Memorandum of Agreement; and a Record of Decision dated November 2010. Supporting documentation: Final Environmental Impact Statement dated October 2010.

3. Project name and location: Second Avenue Subway, New York, NY. Project sponsor: Metropolitan Transportation Authority. Project description: The Second Avenue Subway project is the phased construction of a new 8.5-mile subway line under Second Avenue in Manhattan from 125th Street to Hanover Square in Lower Manhattan. It includes sixteen new stations which will be accessible by persons with disabilities. FTA has agreed to funding for the first phase of the project which will run between 105th Street and 62nd Street and will connect to the existing F line at 63rd Street, so that Phase 1 can be operated before the other phases are built. Various changes to Phase 1 have been evaluated in six technical memorandums. Final agency actions: FTA determination that neither a supplemental environmental impact statement nor a supplemental environmental assessment is necessary. Supporting documentation: Technical Memorandum No.7 assessing the final design of a combined station entrance and ancillary facility located at the northwest corner of 72nd Street and Second Avenue, dated December 2010.

Issued on: January 11, 2011.
Elizabeth S. Riklin,
Deputy Associate Administrator for Planning and Environment Washington, DC.

[FR Doc. 2011-860 Filed 1-14-11; 8:45 am]

BILLING CODE P